DEPARTMENT OF COMMERCE

National Oceanic and Atmospheric Administration

50 CFR Part 226

[Docket No. 09022432-91321-03]

RIN 0648-AX50

Endangered and Threatened Species; Designation of Critical Habitat for the Cook Inlet Beluga Whale

AGENCY: National Marine Fisheries Service (NMFS), National Oceanic and Atmospheric Administration (NOAA), Commerce.

ACTION: Proposed rule; extension of public comment period.

SUMMARY: We, NMFS, are extending the date by which public comments are due concerning the proposed rule to designate critical habitat for the endangered Cook Inlet beluga whale, Delphinapterus leucas, under the Endangered Species Act of 1973, as amended (ESA). We published a proposed rule to designate critical habitat for this species in the Federal Register of December 2, 2009. The original due date for receipt of public comments was scheduled to end on February 1, 2010, and today we extend the public comment period to March 3, 2010.

DATES: The comment date for the proposed rule published December 2, 2009 (74 FR 63080) is extended to March 3, 2010.

ADDRESSES: Send comments to Kaja Brix, Assistant Regional Administrator, Protected Resources, Alaska Region, NMFS, ATTN: Ellen Sebastian. You may submit comments, identified by “RIN 0648-AX50” by any one of the following methods:

Electronic submissions: Submit all electronic public comments via the Federal eRulemaking Portal website at http://www.regulations.gov.

Mail: P.O. Box 21668, Juneau, AK 99802-1668

Fax: 907-586-7557

Hand deliver to the Federal Building: 709 West 9th Street, Room 420A, Juneau, AK.

All comments received are a part of the public record and generally will be posted to http://www.regulations.gov without change. All Personal Identifying Information (e.g. name, address) voluntarily submitted by the commenter may be publicly accessible. Do not submit Confidential Business Information or otherwise sensitive or protected information. NMFS will accept anonymous comments (enter N/A in the required fields, if you wish to remain anonymous). Attachments to electronic comments will be accepted in Microsoft Word, WordPerfect, of Adobe portable document file (PDF) format only.

The proposed rule and other materials relating to the proposed rule to designate critical habitat for the Cook Inlet beluga whale can be found on our Web site at: http://www.fakr.noaa.gov/

FOR FURTHER INFORMATION CONTACT: Kaja Brix, (907) 586-7824, or Marta Nammack, (301) 713-1401.

SUPPLEMENTARY INFORMATION: We published a proposed rule to designate critical habitat for the Cook Inlet beluga whale in the Federal Register of December 2, 2009 (74 FR 63080). We received several requests, including from the Alaska Congressional delegation, to extend the comment period to allow the public to provide input to the designation of critical habitat and, in particular, to comment on the economic report. The Alaska Congressional delegation asked for an additional 30 days; another commenter asked for an additional 60 days. An additional 30-day comment period should allow sufficient time for responders to comment while preserving the time needed for NMFS to prepare the final rule. The original due date for receipt of public comments was scheduled to end on February 1, 2010, and today we extend the public comment period to March 3, 2010.

Authority: 16 U.S.C. 1533 et seq.

Dated: January 6, 2010.
James W. Balsiger,
Assistant Administrator for Fisheries, National Marine Fisheries Service.

[FR Doc. 2010-384 Filed 1-7-10; 4:15 pm]

BILLING CODE 3510-22-S